DEPARTMENT OF AGRICULTURE

Rural Housing Service

Notice of Intent To Hold Public Forums To Solicit Feedback From the Public Regarding the Section 523 Mutual Self-Help Housing Program

AGENCY: Rural Housing Service, USDA.

ACTION: Notice.

SUMMARY: Responding to President Obama's initiative for an open, transparent government, the Rural Housing Service, hereinafter referred to as the Agency, intends to hold public forums to solicit feedback from the public on whether the current method of delivering the self-help program is the most efficient and cost effective in terms of cost and program delivery.

Transparency encourages accountability by delivering information to the public about what the Government is doing. Participation provides the public with opportunities to contribute ideas and expertise to the Government which will enable them to make sound policy decisions that represent a wider group of diverse individuals throughout society. Collaboration improves effectiveness of the Government by encouraging partnerships and cooperation within the Federal Government, across levels of government, and between the Government and private institutions.

The Agency will use information obtained from public forums to evaluate all aspects of the self-help program. As the Agency moves forward, it will continue to encourage and solicit feedback, recommendations, and comments from all sectors of the public. All information relative to these forums will be taped, transcribed, and posted to the Agency Web site.

DATES: Public forums are scheduled for February through June 2010. All written questions and comments must be received by the Agency prior to June 30, 2010. The public forums will be held in selected states and the Washington, DC area.

ADDRESSES: Send questions and comments to: Debra S. Arnold, Program Analyst, Program Support Staff, Rural Housing Service, USDA at 1400 Independence Avenue, SW., Stop 0761, Washington, DC 20250-0761, telephone (202) 720-1366, fax: (202) 690-4335, e-mail debra.arnold@wdc.usda.gov.

FOR FURTHER INFORMATION CONTACT: Debra S. Arnold, Program Analyst, Program Support Staff, Rural Housing Service, USDA at 1400 Independence Avenue, SW., Stop 0761, Washington, DC 20250-0761, telephone (202) 720-1366, fax: (202) 690-4335, e-mail debra.arnold@wdc.usda.gov. For participants who require a sign language interpreter or other special accommodations, please contact Debra S. Arnold as directed above.

SUPPLEMENTARY INFORMATION: One of the major areas within the Section 523 Mutual Self-Help Program that the Agency will be focusing on is the Technical and Management Assistance (T&MA) contracts. The contracts task regional non-profit organizations to provide training and technical assistance to recipients of the Section 523 grants. These recipients, referred to as Section 523 grantees, provide technical assistance to low and very low-income families to build their homes in rural areas. In addition to assisting the Section 523 grantees, the contractors are also required to market the self-help program, monitor the progress of active Section 523 grantees, and provide training to both grantees and families.

The location and time of the forums will be determined at a later date and announced locally. Registration information and deadlines will be provided, at that time. In addition, this information will be posted to the Agency Web site.

Date | State
February 18, 2010 | Arkansas.
March 5, 2010 | Puerto Rico.
March 12, 2010 | North Carolina.
March 26, 2010 | Mississippi.
April 9, 2010 | Arizona.
April 23, 2010 | Ohio.
May 14, 2010 | Washington.
June 4, 2010 | Vermont.
June 11, 2010 | Iowa.
June 18, 2010 | Washington, DC.

Dated: January 27, 2010.
Tammye Treviño,
Administrator, Rural Housing Service.

[FR Doc. 2010-2067 Filed 2-1-10; 8:45 am]

BILLING CODE 3410-XV-P